ENVIRONMENTAL PROTECTION AGENCY

40 CFR Part 52

[EPA-R03-OAR-2012-0409; FRL-9797-8]

Approval and Promulgation of Air Quality Implementation Plans; Pennsylvania; Determinations of Attainment of the 1997 8-Hour Ozone Standard for the Pittsburgh-Beaver Valley Moderate Nonattainment Area

AGENCY: Environmental Protection Agency (EPA).

ACTION: Final rule.

SUMMARY: EPA is making two separate and independent determinations regarding the Pittsburgh-Beaver Valley 1997 8-hour ozone nonattainment area (the Pittsburgh Area). First, EPA is making a determination that the Pittsburgh Area attained the 1997 8-hour ozone national ambient air quality standard (NAAQS) by the applicable attainment date of June 15, 2010. This determination is based upon complete, quality assured, and certified ambient air monitoring data for the 2007-2009 monitoring period showing monitored attainment of the 1997 8-hour ozone NAAQS. Second, EPA is making a determination that the Pittsburgh Area is attaining the 1997 8-hour ozone NAAQS, based on complete, quality assured, and certified ambient air monitoring data for the 2009-2011 monitoring period, and preliminary data for 2012. This final determination suspends the requirement for the Pittsburgh Area to submit an attainment demonstration, reasonably available control measures (RACM), a reasonable further progress (RFP) plan, and contingency measures related to attainment of the 1997 8-hour ozone NAAQS for so long as the area continues to attain that NAAQS. These determinations do not constitute a redesignation to attainment. The Pittsburgh Area will remain designated nonattainment for the 1997 8-hour ozone NAAQS until such time as EPA determines that the Pittsburgh Area meets the Clean Air Act (CAA) requirements for redesignation to attainment, including an approved maintenance plan. These actions are being taken under the CAA.

DATES: This final rule is effective on May 6, 2013.

ADDRESSES: EPA has established a docket for this action under Docket ID Number EPA-R03-OAR-2012-0409. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103.

FOR FURTHER INFORMATION CONTACT: Maria A. Pino, (215) 814-2181, or by email at pino.maria@epa.gov.

SUPPLEMENTARY INFORMATION:

I. Background

On December 10, 2012 (77 FR 73387), EPA published a notice of proposed rulemaking (NPR) for the Commonwealth of Pennsylvania. In the December 10, 2012 rulemaking action, EPA proposed to determine that the Pittsburgh Area attained the 1997 8-hour ozone NAAQS by its attainment date, June 15, 2010. EPA also proposed to make a clean data determination, finding that the Pittsburgh Area has attained the 1997 8-hour ozone NAAQS. No comments were received on the December 10, 2012 NPR.

II. Summary of SIP Revision

These actions do not constitute a redesignation of the Pittsburgh Area to attainment for the 1997 8-hour ozone NAAQS under CAA section 107(d)(3). Neither determination of attainment involves approving a maintenance plan for the Pittsburgh Area, nor determines that the Pittsburgh Area has met all the requirements for redesignation under the CAA, including that the attainment be due to permanent and enforceable measures. Therefore, the designation status of the Pittsburgh Area will remain nonattainment for the 1997 8-hour ozone NAAQS until such time as EPA takes final rulemaking action to determine that the Pittsburgh Area meets the CAA requirements for redesignation to attainment.

A. Determination of Attainment by the Attainment Date

EPA is making a determination that the Pittsburgh Area attained the 1997 8-hour ozone NAAQS by its applicable attainment date of June 15, 2010. This determination is based upon complete, quality assured and certified ambient air monitoring data for the 2007-2009 monitoring period, which is the last full three-year period prior to the June 15, 2010 attainment date. The 2007-2009 data show that the Pittsburgh Area monitored attainment of the 1997 8-hour ozone NAAQS. The effect of a final determination of attainment by the Pittsburgh Area's attainment date is to discharge EPA's obligation under CAA section 181(b)(2) to determine, based on the Pittsburgh Area's air quality as of the attainment date, whether the area attained the standard by that date and to establish that the Pittsburgh Area will not be reclassified.

B. “Clean Data” Determination of Attainment

EPA is also making a determination that the Pittsburgh Area has attained the 1997 8-hour ozone NAAQS. This determination is based upon complete, quality assured and certified ambient air monitoring data that show the Pittsburgh Area has monitored attainment of the 1997 8-hour ozone NAAQS for the 2009-2011 monitoring period. Preliminary data for 2012 are consistent with continued attainment. Under the provisions of EPA's implementation rule for the 1997 8-hour NAAQS (see 40 CFR 51.918), a final determination of attainment suspends the CAA requirements for the Pittsburgh Area to submit an attainment demonstration and the associated RFP plan, contingency measures, RACM analysis, and any other planning requirements related to attainment of the 1997 8-hour ozone NAAQS required for moderate areas under subpart 2 of the CAA. This suspension would remain in effect until such time, if any, that EPA (i) redesignates the area to attainment at which time those requirements no longer apply, or (ii) subsequently determines, after notice-and-comment rulemaking, that the Pittsburgh Area has violated the 1997 8-hour ozone NAAQS. This final determination is separate from, and does not influence or otherwise affect, any future designation or requirements for the Pittsburgh Area based on any new or revised ozone NAAQS. It remains in effect regardless of whether EPA designates the Pittsburgh Area as a nonattainment area for purposes of any new or revised ozone NAAQS.

C. EPA's Analysis of the Relevant Air Quality Data

Consistent with the requirements contained in 40 CFR part 50, EPA has reviewed the 8-hour ozone ambient air quality monitoring data for the 2007-2009, 2008-2010, and 2009-2011 monitoring periods for the Pittsburgh Area, as recorded in EPA's Air Quality System (AQS) database. On the basis of that review, EPA has concluded that the Pittsburgh Area attained the 1997 8-hour ozone NAAQS by its attainment date, based on data for the 2007-2009 monitoring period. EPA has also concluded that the Pittsburgh Area continues to attain, based on data for the 2008-2010 and 2009-2011 monitoring periods. Preliminary 2012 data is consistent with continued attainment.

In the Technical Support Document (TSD) prepared for this action, EPA has evaluated the air quality data for the Pittsburgh Area. EPA's review of the data indicates that the Pittsburgh Area has met the 1997 8-hour ozone NAAQS. For details, please refer to EPA's TSD, which can be viewed at http://www.regulations.gov, Docket ID No. EPA-R03-OAR-2012-0409. The rationale for EPA's action is explained in the NPR and will not be restated here. No public comments were received on the NPR.

III. Final Action

EPA is making two determinations regarding the Pittsburgh Area. First, pursuant to section 181(b)(2)(A) of the CAA, EPA is making a determination that the Pittsburgh Area has attained the 1997 8-hour ozone NAAQS by its moderate area attainment date, June 15, 2010. Second, EPA is making a determination that the Pittsburgh Area is attaining the 1997 8-hour ozone NAAQS, based on complete, quality assured, and certified ambient air monitoring data for the 2009-2011 monitoring period, and preliminary data for 2012. This final determination suspends the requirements for the Pittsburgh Area to submit an attainment demonstration and associated RACM, RFP plan, contingency measures, and any other planning requirements related to attainment of the 1997 8-hours ozone NAAQS for so long as the area continues to attain the 1997 8-hour ozone NAAQS. These determinations do not constitute a redesignation to attainment. The Pittsburgh Area will remain designated nonattainment for the 1997 8-hour ozone NAAQS until such time as EPA determines that the Pittsburgh Area meets the CAA requirements for redesignation to attainment, including an approved maintenance plan.

IV. Statutory and Executive Order Reviews

A. General Requirements

This action, which makes determinations of attainment based on air quality, will result in the suspension of certain Federal requirements and/or will not impose any additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by June 3, 2013. Filing a petition for reconsideration by the Administrator of this final rule does not affect the finality of this action for the purposes of judicial review nor does it extend the time within which a petition for judicial review may be filed, and shall not postpone the effectiveness of such rule or action. This determination that the Pittsburgh Area has attained the 1997 8-hour ozone NAAQS may not be challenged later in proceedings to enforce its requirements. (See section 307(b)(2).)

List of Subjects in 40 CFR Part 52

Environmental protection, Air pollution control, Incorporation by reference, Ozone.

Dated: March 25, 2013.
W.C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. Section 52.2037 is amended by adding paragraph (s) to read as follows:

§ 52.2037 Control strategy plans for attainment and rate-of-progress: Ozone.

* * * * *

(s) Determination of attainment. EPA has determined, as of April 4, 2013, that based on 2009 to 2011 ambient air quality data, the Pittsburgh-Beaver Valley, PA moderate nonattainment area has attained the 1997 8-hour ozone National Ambient Air Quality Standard (NAAQS). This determination, in accordance with 40 CFR 51.918, suspends the requirements for this area to submit an attainment demonstration, associated reasonably available control measures, a reasonable further progress plan, contingency measures, and other planning SIPs related to attainment of the standard for as long as this area continues to meet the 1997 8-hour ozone NAAQS.

3. Section 52.2056 is amended by adding paragraph (i) to read as follows:

§ 52.2056 Determinations of attainment.

* * * * *

(i) Based upon EPA's review of the air quality data for the 3-year period 2007 to 2009, the Pittsburgh-Beaver Valley, PA moderate nonattainment area has attained the 1997 8-hour ozone NAAQS by the applicable attainment date of June 15, 2010. Therefore, EPA has met the requirement pursuant to CAA section 181(b)(2)(A) to determine, based on the area's air quality as of the attainment date, whether the area attained the standard. EPA also determined that the Pittsburgh-Beaver Valley, PA moderate nonattainment area will not be reclassified for failure to attain by its applicable attainment date pursuant to section 181(b)(2)(A).

[FR Doc. 2013-07768 Filed 4-3-13; 8:45 am]

BILLING CODE 6560-50-P